DEPARTMENT OF HOMELAND SECURITY

Coast Guard

33 CFR Part 117

[Docket No. USCG-2012-0854]

Drawbridge Operation Regulation; Shark River, Avon, NJ

AGENCY: Coast Guard, DHS.

ACTION: Notice of temporary deviation from regulations.

SUMMARY: The Coast Guard has issued a temporary deviation from the operating schedule that governs the operation of the draws of three bridges which operate as one unit, specifically, the S71 bridge, mile 0.8, the railroad bridge, mile 0.9, and the S35 bridge, mile 0.9, all of which are across the Shark River (South Channel), at Avon Township, NJ. This deviation is necessary to facilitate stringer replacement on the Shark River railroad bridge. This temporary deviation will allow the drawbridges, which operate in unison, to remain in the closed-to-navigation position on specific dates and times.

DATES: This deviation is effective from 10 p.m. September 21, 2012 until 6:00 a.m. on September 24, 2012 and from 10 p.m. September 28, 2012 until 6:00 a.m. October 1, 2012.

ADDRESSES: Documents mentioned in this preamble as being available in the docket USCG-2012-0854 and are available online by going to http://www.regulations.gov, inserting USCG-2012-0854 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Jim Rousseau, Bridge Management Specialist, Fifth Coast Guard District, telephone (757) 398-6557, email James.L.Rousseau2@uscg.mil. If you have questions on reviewing the docket, call Renee V. Wright, Program Manager, Docket Operations, 202-366-9826.

SUPPLEMENTARY INFORMATION: The New Jersey Transit, owner and operator of the Shark River Railroad Bridge across the Shark River (South Channel), mile 0.9, at Avon, NJ, has requested a temporary deviation from the current operating regulations set out in 33 CFR 117.751, to accommodate stringer replacement for the Shark River Bridge.

The Shark River Railroad Bridge across the Shark River, mile 0.9, is a bascule lift Bridge, in Avon Township, NJ, and has a vertical clearance in the closed position of 10 feet, above mean high water.

Because the draw of the Shark River bridge operates in unison with the S71 bridge, mile 0.8, and the S35 bridge, mile 0.9, all across Shark River at Avon Township, NJ, the draws of these two bridges will also be restricted under this deviation. These bridges are also bascule lift bridges and have a vertical clearance of 13 and 10 feet respectively.

The current schedule the Shark River Railroad Bascule Bridge operating regulations are set out in 33 CFR 117.751. Under normal operating conditions, the draws of S71 bridge, mile 0.8, the railroad bridge, mile 0.9, and the S35 bridge, mile 0.9, all at Avon, operate as one unit.

Under this temporary deviation, the above mentioned drawbridges will be allowed to remain in the closed-to-navigation position for the half hour opening requests and only open on the hour from 11:00 p.m. Friday September 21, 2012 to 6:00 a.m. on Monday September 24, 2012 and Friday September 28, 2012 to 6:00 a.m. on Monday October 1, 2012 to accommodate stringer replacement.

Vessels able to pass under the spans when closed may transit under the drawbridges while they are in the closed position. Mariners are advised to proceed with caution. The Coast Guard will inform mariners and other users of the waterway through local broadcast Notices to Mariners. These broadcasts will include information of the limited operating schedule for the drawbridge so that vessels can rearrange their transit in order to minimize any impacts caused by the temporary deviation. There are no alternate routes for vessels and the bridge will be able to open in the event of an emergency.

In accordance with 33 CFR 117.35(e), the drawbridge must return to its regular operating schedule immediately at the end of the designated time period. This deviation from the operating regulations is authorized under 33 CFR 117.35.

Dated: September 6, 2012.
G.D. Case,
Captain, U.S. Coast Guard, Fifth Coast Guard District.

[FR Doc. 2012-22774 Filed 9-14-12; 8:45 am]

BILLING CODE 9110-04-P